DEPARTMENT OF HOMELAND SECURITY

Coast Guard

33 CFR Part 117

[Docket No. USCG-2015-0351]

Drawbridge Operation Regulation; Lewis and Clark River, Astoria, OR

AGENCY: Coast Guard, DHS.

ACTION: Notice of canceling temporary deviation from drawbridge regulation.

SUMMARY: The Coast Guard is canceling the temporary deviation concerning the operating schedule that governs the Oregon State (Lewis and Clark River) Highway Bridge across the Lewis and Clark River, mile 1.0, at Astoria, OR. The deviation needs to be canceled due to contract agreements with the Oregon Department of Transportation (ODOT) and the bridge construction company. Weekend work dates have been changed.

DATES: The temporary deviation published on April 28, 2015, at 80 FR 23445, is cancelled as of April 28, 2015.

ADDRESSES: The docket for this deviation, [USCG-2015-0351] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this cancelation, call or email Steven M. Fischer, Thirteenth Coast Guard District Bridge Program Administrator, telephone 206-220-7282, email d13-pf-d13bridgesuscg.mil. If you have questions on viewing the docket, call Cheryl Collins, Program Manager, Docket Operations, telephone 202-366-9826.

SUPPLEMENTARY INFORMATION:

A. Basis and Purpose

On April 28, 2015, we published a temporary deviation entitled “Drawbridge Operation Regulation; Lewis and Clark River, Astoria, OR” in the Federal Register (80 FR 23445). The temporary deviation concerned the operating schedule of the Oregon State (Lewis and Clark) highway bridge. This deviation allowed the bascule span to remain in the closed-to-navigation position to accommodate bridge maintenance activities on the bridge, and need not open to maritime traffic. This deviation from the operating regulations was authorized under 33 CFR 117.35.

B. Cancellation

ODOT made a contract agreement after the requested temporary deviation was approved. At the time of the initial request submitted by the ODOT Project Manager, the bridge construction crew was planning to work Monday through Friday. However, on April 10, 2015, ODOT and the construction company changed the working days to Tuesday through Saturday. ODOT noticed the discrepancy after reviewing the approval letter. As a result of this discrepancy, the times listed in the approved temporary deviation are incorrect.

Dated: April 29, 2015.
Steven M. Fischer,
Bridge Administrator, Thirteenth Coast Guard District.

[FR Doc. 2015-10430 Filed 5-4-15; 8:45 am]

BILLING CODE 9110-04-P